DEPARTMENT OF VETERANS AFFAIRS

[OMB Control No. 2900-0408]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 20, 2002.

FOR FURTHER INFORMATION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0408.”

Send comments and recommendations concerning any aspect of the information collection to VA's OMB Desk Officer, OMB Human Resources and Housing Branch, New Executive Office Building, Room 10235, Washington, DC 20503 (202) 395-7316. Please refer to “OMB Control No. 2900-0408” in any correspondence.

SUPPLEMENTARY INFORMATION: Titles:

a. Manufactured Home Loan Claim Under Loan Guaranty (Manufactured Home Unit Only), VA Form 26-8629.

b. Manufactured Home Loan Claim Under Loan Guaranty (Combination Loan “ Manufactured Home Unit and Lot or Lot Only), VA Form 26-8630.

OMB Control Number: 2900-0408.

Type of Review: Extension of a currently approved collection.

Abstract:

a. VA Form 26-8629 is completed and submitted by holders of terminated VA guaranteed manufactured home unit loans and a prerequisite payment of any claims.

b. VA Form 26-8630 is used as a prerequisite to payment of claims on terminated combination loans. The collected is used to determine claim payment due the holder.

Data furnished on these forms, such as accrued interest, various expenses of liquidation, and claim balance, are used by holder in determining the amount claimed. Supporting documentation required includes copies of ledgers for VA use in verifying data provided by the holder to ensure its accounts are correct and to avoid overpayment.

An agency may not conduct or sponsor, and a person is not required to respond to a collection of information unless it displays a currently valid OMB control number. The Federal Register Notice with a 60-day comment period soliciting comments on this collection of information was published on February 28, 2002, at page 9359.

Affected Public: Business or other for-profit, and Individuals or households.

Estimated Annual Burden: 36 hours.

a. Manufactured Home Loan Claim Under Loan Guaranty (Manufactured Home Unit Only), VA Form 26-8629—33 hours.

b. Manufactured Home Loan Claim Under Loan Guaranty (Combination Loan—Manufactured Home Unit and Lot or Lot Only), VA Form 26-8630—3 hours.

Estimated Average Burden Per Respondent:

a. Manufactured Home Loan Claim Under Loan Guaranty (Manufactured Home Unit Only), VA Form 26-8629—20 minutes.

b. Manufactured Home Loan Claim Under Loan Guaranty (Combination Loan—Manufactured Home Unit and Lot or Lot Only), VA Form 26-8630—20 minutes.

Frequency of Response: On occasion.

Estimated Number of Total Respondents: 110.

Dated: May 9, 2002.
By direction of the Secretary.
Genie McCully,
Acting Director, Information Management Service.

[FR Doc. 02-12674 Filed 5-20-02; 8:45 am]

BILLING CODE 8320-01-P